Title 3—

The President

Proclamation 8300 of October 3, 2008

Child Health Day, 2008

By the President of the United States of America

A Proclamation

Americans have a duty to promote the health and safety of our children. On Child Health Day, we affirm that all children are a precious gift, and we underscore our commitment to helping them realize their full potential.

Families are the foundation of our society, and parents play the vital role of providing stability, guidance, and discipline so children can lead healthy lives. Teachers, caregivers, and mentors can also help teach children about the importance of making good choices. All Americans can help our Nation's youth become healthy and responsible adults by encouraging them to avoid risky behaviors such as early sexual activity, drugs, alcohol, and violence.

My Administration remains dedicated to helping younger generations achieve their dreams by supporting programs that encourage children to maintain healthy and active lifestyles. The Helping America's Youth initiative, led by First Lady Laura Bush, is helping children make smart decisions so they can confront challenges and live longer and better lives. The HealthierUS initiative encourages positive habits and addresses public health issues facing our Nation's youth, such as childhood obesity. Through the President's Challenge, we are promoting personal fitness and encouraging youth to stay active beyond the school gym. Through these and other efforts, we can make our country stronger by teaching children the importance of healthy choices.

The Congress, by a joint resolution approved May 18, 1928, as amended (36 U.S.C. 105), has called for the designation of the first Monday in October as “Child Health Day” and has requested the President to issue a proclamation in observance of this day.

NOW, THEREFORE, I, GEORGE W. BUSH, President of the United States of America, do hereby proclaim Monday, October 6, 2008, as Child Health Day. I call upon families, schools, child health professionals, faith-based and community organizations, and State and local governments to reach out to our Nation's young people, encourage them to avoid dangerous behavior, and help them make the right choices to achieve their dreams.

IN WITNESS WHEREOF, I have hereunto set my hand this third day of October, in the year of our Lord two thousand eight, and of the Independence of the United States of America the two hundred and thirty-third.

[FR Doc. E8-23948

Filed 10-6-08; 11:30 am]

Billing code 3195-W9-P